DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 4, 2004.

Interested persons are invited to submit written comments regarding the subject matter of the investigations to the Director, Division of Trade Adjustment Assistance, at the address shown below, not later than October 4, 2004.

The petitions filed in this case are available for inspection at the Office of the Director, Division of Trade Adjustment Assistance, Employment and Training Administration, U.S. Department of Labor, Room C-5311, 200 Constitution Avenue, NW., Washington, DC 20210.

Signed at Washington, DC this 17th day of September 2004.
Timothy Sullivan,
Director, Division of Trade Adjustment Assistance.

Appendix
[Petitions instituted between 08/30/2004 and 9/10/2004]
TA-W | Subject firm (petitioners) | Location | Date of institution | Date of petition
55,514 | Elliott Power Systems (Comp) | Lexington, TN | 08/31/2004 | 08/31/2004
55,515 | Burkart Carolina, LLC (Comp) | Henderson, NC | 08/31/2004 | 08/25/2004
55,516 | Invista, Inc. (Wkrs) | Kinston, NC | 08/31/2004 | 08/26/2004
55,517 | U.S. Fuji Electric (Wkrs) | Ashland, VA | 08/31/2004 | 08/24/2004
55,518 | BASF (TX) | Freeport, TX | 08/31/2004 | 08/30/2004
55,519 | Pinehurst Manufacturing (Comp) | Albemarle, NC | 08/31/2004 | 08/24/2004
55,520 | Galey and Lord Industries (Comp) | New York, NY | 08/31/2004 | 08/24/2004
55,521 | Micro Craft (MI) | Novi, MI | 08/31/2004 | 08/27/2004
55,522 | Ace Electrical Acquisition, LLC (Comp) | Columbus, KS | 08/31/2004 | 08/27/2004
55,523 | Meadwestvaco (Comp) | Garland, TX | 08/31/2004 | 08/30/2004
55,524 | Spartech Vy-Cal (USWA) | Conshocken, PA | 08/31/2004 | 08/27/2004
55,525 | Pacific Precision Metals (Comp) | Azusa, CA | 08/31/2004 | 08/25/2004
55,526 | IQE, Inc. (Wkrs) | Bethlehem, PA | 08/31/2004 | 08/12/2004
55,527 | Thomson/Biosis (NPW) | Philadelphia, PA | 08/31/2004 | 08/12/2004
55,528 | Drager Medical (Wkrs) | Telford, PA | 08/31/2004 | 08/06/2004
55,529 | Plastek Group (Wkrs) | Erie, PA | 08/31/2004 | 08/23/2004
55,530 | AT and T Corp. (NPW) | Augusta, GA | 08/31/2004 | 08/30/2004
55,531 | Electronic Data Systems (NPW) | Raleigh, NC | 08/31/2004 | 08/29/2004
55,532 | Primavera Manufacturing Corp. (Comp) | Philadelphia, PA | 08/31/2004 | 08/24/2004
55,533 | Johnson Electric (Comp) | Brownsville, TX | 09/01/2004 | 08/31/2004
55,534 | Collins Tool Corp. (Comp) | Lewistown, PA | 09/01/2004 | 08/31/2004
55,535 | KEMET Electronic (Comp) | Brownsville, TX | 09/01/2004 | 08/31/2004
55,536 | Hitachi Magnetics Corp. (Comp) | Edmore, MI | 09/01/2004 | 08/24/2004
55,537 | Great Lakes Castings Corp. (Comp) | Ludington, MI | 09/01/2004 | 08/27/2002
55,538 | Amerock (Comp) | Rockford, IL | 09/01/2004 | 08/31/2004
55,539 | Clover Garments (Wkrs) | San Francisco, CA | 09/01/2004 | 08/30/2002
55,540 | American Uniform Co. (Comp) | Conasauga, TN | 09/01/2004 | 08/24/2004
55,541 | Glencore Ltd. (NPS) | Stamford, CT | 09/01/2004 | 08/31/2004
55,542 | McGarry Machine (OR) | Portland, OR | 09/01/2004 | 08/31/2004
55,543 | Clifford Tools and Mfg. Company (CA) | Chatsworth, CA | 09/02/2004 | 08/27/2004
55,544 | Canteen Vending (Comp) | Fletcher, NC | 09/02/2004 | 08/23/2004
55,545 | Hooker Furniture Corp. (Comp) | Maiden, NC | 09/02/2004 | 08/26/2004
55,546 | Georgia Pacific Corp. (Comp) | Bellingham, WA | 09/02/2004 | 08/31/2004
55,547 | Eddie Labels and Accessories Corp. (Wkrs) | City of Industr, CA | 09/02/2004 | 09/01/2004
55,548 | Miller Golf Co. (Comp) | Rockland, MA | 09/02/2004 | 08/13/2004
55,549 | Engineering Service (Wkrs) | Troy, MI | 09/03/2004 | 09/01/2004
55,550 | Owen Manufacturing (Wkrs) | Owen, WI | 09/03/2004 | 08/26/2004
55,551 | Corra-Board Products—Timbar Packaging (Comp) | Hanover, PA | 09/08/2004 | 08/31/2004
55,552 | Nu-Kote International (Comp) | Chatsworth, CA | 09/03/2004 | 08/25/2004
55,553 | Honeywell (Wkrs) | Falls Church, VA | 09/03/2004 | 08/27/2004
55,554 | Array/KCS Industries (WI) | Hartland, WI | 09/03/2004 | 09/02/2004
55,555 | American Offset Printing Ink (Comp) | Charlotta, NC | 09/03/2004 | 08/25/2004
55,556 | Aeronca (IAM) | Middletown, OH | 09/03/2004 | 08/27/2004
55,557 | TSI of Florida/Cable SPEC LLC (Comp) | Grand Prairie, TX | 09/03/2004 | 08/31/2004
55,558 | Emerson Appliance Controls (Comp) | Sparta, TN | 09/03/2004 | 08/26/2004
55,559 | Chatham Borgstena Automotive Textiles (Comp) | Mount Airy, NC | 09/03/2004 | 08/25/2004
55,560 | Lacey Manufacturing Co. (Comp) | Bridgeport, CT | 09/03/2004 | 09/02/2004
55,561 | Nibco Inc., (Wkrs) | Elkhart, IN | 09/07/2004 | 08/18/2004
55,562 | Engineering Service (Wkrs) | Troy, MI | 09/07/2004 | 09/01/2004
55,563 | Marsilli North America (Comp) | Owings Mills, MD | 09/07/2004 | 09/05/2004
55,564 | Haeger Potteries of Macomb (The) (Comp) | Macomb, IL | 09/07/2004 | 09/03/2004
55,565 | Wing Tai Company (Wkrs) | San Francisco, CA | 09/07/2004 | 09/03/2004
55,566 | Johnson Screens (MN) | New Brighton, MN | 09/07/2004 | 09/03/2004
55,567 | Honeywell Video Systems (Comp) | Falls Church, VA | 09/08/2004 | 08/30/2004
55,568 | Arch Wireless (Wkrs) | Charlotte, NC | 09/08/2004 | 09/03/2004
55,569 | SM Company (Comp) | Asheville, NC | 09/08/2004 | 09/07/2004
55,570 | Queen Manufacturing (Comp) | Asheville, NC | 09/08/2004 | 09/07/2004
55,571 | Westling Manufacturing Co. (MN) | Princeton, MN | 09/08/2004 | 09/02/2004
55,572 | Down River, LLC (Wkrs) | White City, OR | 09/09/2004 | 08/31/2004
55,573 | Libbey Glass (USWA) | Walnut, CA | 09/09/2004 | 08/31/2004
55,574 | Philips Lighting Co. (IBEW) | Paris, TX | 09/09/2004 | 09/02/2004
55,575 | Duncan Industries (AR) | Harrison, AR | 09/09/2004 | 09/08/2004
55,576 | Hickory Springs Mgf. Co. (Wkrs) | Conover, NC | 09/09/2004 | 09/08/2004
55,577 | Resources Conservation (CT) | Stamford, CT | 09/09/2004 | 09/08/2004
55,578 | Clestica Corporation (AR) | Little Rock, AR | 09/09/2004 | 09/08/2004
55,579 | Cozzini, Inc. (CA) | San Leandro, CA | 09/09/2004 | 08/31/2004
55,580 | Lear Corporation (UAW) | New Castle, DE | 09/09/2004 | 08/23/2004
55,581 | West Point Foundry and Machine (Wkrs) | West Point, GA | 09/09/2004 | 08/26/2004
55,582 | American Falcon Corp. (Comp) | Auburn, ME | 09/10/2004 | 09/08/2004
55,583 | Android Industries (Comp) | Vienna, OH | 09/10/2004 | 09/08/2004
55,584 | Pompei Furniture/BJI Employees Services | Miami, FL | 09/10/2004 | 09/09/2004
55,585 | Blue Ridge Paper Products (NJ) | Morristown, NJ | 09/10/2004 | 09/09/2004
55,586 | IBM (NC) | Durham, NC | 09/10/2004 | 09/09/2004
55,587 | General Electric Co. (Wkrs) | Conover, NC | 09/10/2004 | 08/31/2004
55,588 | Zellweger Analytics (FL) | Miramar, FL | 09/10/2004 | 09/09/2004

[FR Doc. 04-21348 Filed 9-22-04; 8:45 am]

BILLING CODE 4510-30-M